DEPARTMENT OF HEALTH AND HUMAN SERVICES

Centers for Disease Control and Prevention

Disease, Disability, and Injury Prevention and Control Special Emphasis Panel (SEP): The Sexual Networks of African American Sexually Transmitted Infection Repeaters: An Elaboration of Risk, Potential Extramural Project (PEP) 2006-R-04; Internet and Sexually Transmitted Disease Center of Excellence, PEP 2006-R-05

In accordance with section 10(a)(2) of the Federal Advisory Committee Act (Pub. L. 92-463), the Centers for Disease Control and Prevention (CDC) announces the following meeting:

Name: Disease, Disability, and Injury Prevention and Control Special Emphasis Panel (SEP): The Sexual Networks of African American Sexually Transmitted Infection Repeaters: An Elaboration of Risk, PEP 2006-R-04; Internet and Sexually Transmitted Disease Center of Excellence, PEP 2006-R-05.

Time and Date: 12 a.m.-5 p.m., May 24, 2006 (Closed).

Place: Centers for Disease Control and Prevention, Building 21, Conference Room 8116, 8th Floor, 1600 Clifton Road, Atlanta, GA 30333, Telephone 404-639-4941.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to “The Sexual Networks of African American Sexually Transmitted Infection Repeaters: An Elaboration of Risk,” PEP 2006-R-04; “Internet and Sexually Transmitted Disease Center of Excellence,” PEP 2006-R-05.

Due to programmatic matters, this Federal Register Notice is being published on less than 15 calendar days notice to the public (41 CFR 102-3.150(b)).

For Further Information Contact: Jim Newhall, Ph.D., Scientific Review Administrator, Centers for Disease Control and Prevention, 1600 Clifton Road NE., MS D-72, Atlanta, GA 30333, Telephone 404-639-4941.

The Director, Management Analysis and Services Office, has been delegated the authority to sign Federal Register notices pertaining to announcements of meetings and other committee management activities, for both CDC and the Agency for Toxic Substances and Disease Registry.

Dated: May 8, 2006.
Alvin Hall,
Director, Management Analysis and Services Office, Centers for Disease Control and Prevention.

[FR Doc. 06-4500 Filed 5-11-06; 8:45 am]

BILLING CODE 4163-18-P